DEPARTMENT OF THE INTERIOR

Fish and Wildlife Service

50 CFR Part 17

RIN 1018-AH61

Endangered and Threatened Wildlife and Plants; Reopening of Comment Period and Notice of Availability of the Draft Economic Analysis for Proposed Critical Habitat for the Bay Checkerspot Butterfly

AGENCY: Fish and Wildlife Service, Interior.

ACTION: Proposed rule; reopening of comment period and notice of availability of draft economic analysis.

SUMMARY: We, the U.S. Fish and Wildlife Service, announce the availability of the draft economic analysis for the proposed designation of critical habitat for the bay checkerspot butterfly (Euphydryas editha bayensis). We are also providing notice of the reopening of the comment period for the proposal to designate critical habitat for the bay checkerspot butterfly to allow all interested parties to comment simultaneously on the proposed rule and the associated draft economic analysis. Comments previously submitted need not be resubmitted as they will be incorporated into the public record as part of this reopened comment period and will be fully considered in the final rule.

DATES: We will accept public comments until March 12, 2001. In addition, we are planning on holding one public information meeting during this time. Refer to the Public Information Meeting section for the date, time, and location of this meeting.

ADDRESSES: Written comments and information should be submitted to Field Supervisor, Sacramento Fish and Wildlife Office, U.S. Fish and Wildlife Service, 2800 Cottage Way, Suite W-2605, Sacramento, California 95825. For electronic mail address and further instructions on commenting, refer to Public Comments Solicited section of this notice.

FOR FURTHER INFORMATION CONTACT: For general information, contact David Wright, Stephanie Brady or Patricia Foulk, at the above address (telephone 916/414-6600; facsimile 916/414-6710).

SUPPLEMENTARY INFORMATION:

Background

The bay checkerspot butterfly (Euphydryas editha bayensis) is a medium-sized butterfly with a wing span of about 5 centimeters (2 inches). The forewings have black bands along all the veins on the upper wing surface, contrasting sharply with bright red, yellow and white spots. The species occurs in San Francisco Bay area counties, notably the counties of San Mateo and Santa Clara. For a detailed description of this species, see the Recovery Plan for Serpentine Soil Species of the San Francisco Bay Area (FWS 1998) and references within that plan.

Pursuant to the Endangered Species Act of 1973, as amended (Act), the bay checkerspot butterfly was listed as a threatened species on September 18, 1987 (52 FR 35366). Residential and commercial development, invasive non-native plants, and air pollution threaten the bay checkerspot butterfly.

On June 30, 1999, the Center for Biological Diversity, filed a complaint against us challenging our critical habitat findings for seven species, including the bay checkerspot. On August 30, 2000, the United States District Court for the Northern District of California (Southwest Center for Biological Diversity v. Bruce Babbit. et al., CIV 99-3202) ruled on several of the species involved, including the bay checkerspot. The court ordered us to propose critical habitat within 60 days of the ruling and to finalize the designation within 120 days of the proposed designation. A subsequent settlement agreement with the Center for Biological Diversity extended the date for the final rule to April 20, 2001.

On October 16, 2000, we published in the Federal Register (65 FR 61218) a proposed rule to designate critical habitat for the bay checkerspot butterfly. The original comment period closed on December 15, 2000.

We have proposed to designate 15 critical habitat areas totaling approximately 10,600 hectares (ha) (26,180 acres(ac)) in Santa Clara and San Mateo counties of California. The areas range in size from 179 ha (443 ac) to approximately 2,855 ha (7,055 ac).

Critical habitat receives protection from destruction or adverse modification through required consultation under section 7 of the Act (16 U.S.C. 1531 et seq.) with regard to actions carried out, funded, or authorized by a Federal agency. Section 4(b)(2) of the Act requires that the Secretary shall designate or revise critical habitat based upon the best scientific and commercial data available, and may exclude areas from designation after taking into consideration the economic impact of specifying any particular area as critical habitat. Based upon the previously published proposal to designate critical habitat for the bay checkerspot butterfly, and comments received during the previous comment periods, we have prepared a draft economic analysis of the proposed critical habitat designation. The draft economic analysis is available at the Internet and mailing addresses in the Public Comments Solicited section below.

Public Comments Solicited

We will accept written comments and information during this re-opened comment period. If you wish to comment, you may submit your comments and materials concerning this proposal by any of several methods:

(1) You may submit written comments and information to the Field Supervisor, Sacramento Fish and Wildlife Office, U.S. Fish and Wildlife Service, 2800 Cottage Way, Suite W-2605, Sacramento, California 95825.

(2) You may send comments by electronic mail (e-mail) to: fw1baycheckerspot@fws.gov. If you submit comments by e-mail, please submit them as an ASCII file and avoid the use of special characters and any form of encryption. Please also include “Attn: RIN 1018-AH61”' and your name and return address in your e-mail message. If you do not receive a confirmation from the system that we have received your e-mail message, contact us directly by calling our Sacramento Fish and Wildlife Office at telephone number 919/414-6600.

(3) You may hand-deliver comments to our Sacramento Fish and Wildlife Office at the address given above or at the public information meeting (see Public Information Meeting section below).

Comments and materials received, as well as supporting documentation used in preparation of the proposal to designate critical habitat, will be available for inspection, by appointment, during normal business hours at the address under (1) above. Copies of the draft economic analysis are available on the Internet at “www.r1.fws.gov” or by writing to the Field Supervisor at the address under (1) above.

Public Information Meeting

We have scheduled one public information meeting. This meeting will be held on February 22, 2001, from 1:00 to 4:00 p.m., at the Hyatt Sainte Claire, 302 South Market Street, San Jose, California. You may hand-deliver written comments at this meeting.

Author(s)

The primary authors of this notice are Stephanie Brady (see ADDRESSES section), and Christine Mullen, U.S. Fish and Wildlife Service, Regional Office, 911 N.E. 11th Avenue, Portland, Oregon 97232.

Authority

The authority for this action is the Endangered Species Act of 1973 (16 U.S.C. 1531 et seq.).

Dated: February 5, 2001.
Elizabeth H. Stevens,
Acting Manager, California/Nevada Operations Office, Region 1, U.S. Fish and Wildlife Service.

[FR Doc. 01-3345 Filed 2-8-01; 8:45 am]

BILLING CODE 4310-55-P